DEPARTMENT OF COMMERCE

National Oceanic and Atmospheric Administration

Extension of Waiting Period for the Final Environmental Impact Statement/Final Management Plan (FEIS/FMP) for the Proposed San Francisco Bay National Estaurine Research Reserve

AGENCY: The Estuarine Reserves Division, Office of Ocean and Coastal Resource Management, National Ocean Service, National Oceanic and Atmospheric Administration, U.S. Department of Commerce.

ACTION: Extension of waiting period.

SUMMARY: Notice is hereby given that the Estuarine Reserves Division of the Office of Ocean and Coastal Resource Management (OCRM), National Ocean Service (NOS), National Oceanic and Atmospheric Administration (NOAA), U.S. Department of Commerce, is extending the 30-day waiting period for the Final Environmental Impact Statement/Management Plan (FEIS/FMP) for the proposed San Francisco Bay National Estuarine Research Reserve to August 26, 2002. The availability of the FEIS/FMP was announced on July 16, 2002 (67 FR 46637) with the waiting period ending on August 19, 2002. The time extension is due to mailing delays on the FEIS/FMP. The FEIS/FMP addresses research, monitoring, education, and resource protection needs for the proposed reserve.

If no substantive comments have been submitted to NOAA by August 26, 2002, a notice of availability of a Record of Decision will be published in the Federal Register and a Designation Document will be signed by the Under Secretary of NOAA and the Director of the Romberg Tiburon Center of the San Francisco State University.

FOR FURTHER INFORMATION CONTACT: Ms. Laurie McGilvray, Chief, Estuarine Reserves Division, Office of Ocean and Coastal Resource Management, National Ocean Service, NOAA 1305 East West Highway, N/ORM5, Silver Spring, Maryland 20910, (301) 713-3155, Extension 158. Copies of the FEIS/FMP are available upon request to the Estuarine Reserves Division.

Dated: August 9, 2002.
Alan Neuschatz,
Chief Financial Officer/Chief Administrative Officer for Ocean Services and Coastal Zone Management.

Federal Domestic Assistance Catalog Number 11.420 (Coastal Zone Management) Research Reserves

[FR Doc. 02-20641 Filed 8-12-02; 8:45 am]

BILLING CODE 3510-08-M